DEPARTMENT OF COMMERCE

National Oceanic and Atmospheric Administration

50 CFR Part 622

[Docket No. 170823802-7802-01]

RIN 0648-BG82

Fisheries of the Caribbean, Gulf of Mexico, and South Atlantic; Shrimp Fishery of the Gulf of Mexico; Amendment 17B

AGENCY: National Marine Fisheries Service (NMFS), National Oceanic and Atmospheric Administration (NOAA), Commerce.

ACTION: Proposed rule; request for comments.

SUMMARY: NMFS proposes regulations to implement Amendment 17B to the Fishery Management Plan for the Shrimp Fishery of the Gulf of Mexico U.S. Waters, (FMP), as prepared and submitted by the Gulf of Mexico (Gulf) Fishery Management Council (Council). This proposed rule would allow for the creation of a Federal Gulf shrimp reserve pool permit when certain conditions are met, and would allow non-federally permitted Gulf shrimp vessels to transit through the Gulf exclusive economic zone (EEZ). Amendment 17B would also define the aggregate maximum sustainable yield (MSY) and aggregate optimum yield (OY), and determine a minimum number of commercial vessel moratorium permits in the fishery. This proposed rule also would make technical corrections to the regulations that would revise the coordinates for the Tortugas shrimp sanctuary in the Gulf, and correct the provisions regarding the harvest and possession of wild live rock in Gulf Federal waters. The purpose of this proposed rule and Amendment 17B is to protect federally managed Gulf shrimp stocks while maintaining catch efficiency, economic efficiency, and stability in the fishery.

DATES: Written comments must be received on or before November 3, 2017.

ADDRESSES: You may submit comments on the proposed rule, identified by “NOAA-NMFS-2017-0040” by either of the following methods:

• Electronic Submission: Submit all electronic public comments via the Federal e-Rulemaking Portal. Go to www.regulations.gov/#!docketDetail;D=NOAA-NMFS-2017-0040, click the “Comment Now!” icon, complete the required fields, and enter or attach your comments.

• Mail: Submit written comments to Frank Helies, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of Amendment 17B, which includes an environmental assessment, a Regulatory Flexibility Act (RFA) analysis, and a regulatory impact review, may be obtained from the Southeast Regional Office Web site at http://sero.nmfs.noaa.gov/sustainable_fisheries/gulf_fisheries/shrimp/2017/am17b/index.html.

FOR FURTHER INFORMATION CONTACT: Frank Helies, telephone: 727-824-5305, or email: Frank.Helies@noaa.gov.

SUPPLEMENTARY INFORMATION: The shrimp fishery in the Gulf is managed under the FMP. The FMP was prepared by the Council and implemented through regulations at 50 CFR part 622 under the authority of the Magnuson-Stevens Fishery Conservation and Management Act (Magnuson-Stevens Act).

This document also proposes to designate the unidentified tables in § 622.55 to bring the section into compliance with the requirements of 1 CFR 8.1 and 8.2 and with the Office of the Federal Register's Document Drafting Handbook (https://www.archives.gov/files/federal-register/write/handbook/ddh.pdf) section 7.4.

Background

From 2003 to 2006, the Gulf shrimp fishery experienced significant economic losses, primarily as a result of high fuel costs and reduced prices caused by competition with imports. These economic losses contributed to a reduction in the number of vessels in the fishery, and consequently, a reduction of commercial effort. During that time, commercial vessels in the Gulf shrimp fishery were required to have an open-access permit. In 2006, to prevent overcapitalizing the fishery when it became profitable again, the Council established a 10-year freeze on the issuance of new shrimp permits and created a limited access Federal Gulf shrimp moratorium permit (moratorium permit) (71 FR 56039, September 26, 2006). In 2016, the Council extended the duration of the Gulf shrimp moratorium permit program for another 10 years in Amendment 17A to the FMP (81 FR 47733, July 22, 2016).

During the development of Amendment 17A, the Council identified several other issues with the Gulf shrimp fishery that it wanted addressed. First, MSY and OY (equal to MSY), are defined individually for the three penaeid shrimp species and for royal red shrimp. Second, the number of moratorium permits has continued to decline and the Council is concerned that the decline in total permits will continue indefinitely. Finally, transit through Federal waters (Gulf EEZ) with shrimp on board currently requires a moratorium permit, which limits the ability of a state-registered vessel to navigate in certain areas of the Gulf while engaged in shrimping. Amendment 17B was developed to address these issues through revisions to management reference points and the Gulf shrimp permit program while maintaining catch efficiency, economic efficiency, and stability in the fishery.

Management Measures Codified Through in This Proposed Rule

This proposed rule would allow for the creation of a Federal Gulf shrimp reserve pool permit when certain conditions are met and would allow non-federally permitted Gulf shrimp vessels to transit through the Gulf EEZ.

Federal Gulf Shrimp Reserve Pool Permit

Currently, moratorium permits are valid for 1 year and are required to be renewed annually. If the permit is not renewed within 1 year of its expiration date, the permit is no longer renewable and is terminated. A terminated permit cannot be reissued by NMFS and is lost to the fishery.

As of December 31, 2016, there were 1,441 moratorium permits that were valid or renewable. Since the start of the permit moratorium, a total of 493 moratorium permits have been terminated. As described in Amendment 17B, when the number of valid or renewable moratorium permits reaches 1,072, then any moratorium permits that are not renewed within 1 year of expiration would be converted to a Gulf shrimp reserve pool permit. This number is based on the predicted number of active permitted vessels needed to attain aggregate OY in the offshore fishery. As explained further below, the aggregate OY accounts for relatively high catch per unit effort (CPUE) and landings while reducing the risk of exceeding sea turtle and juvenile red snapper bycatch.

As described in Amendment 17B, the Council estimates that it could take up to 24 years to reach the threshold value of 1,072 valid or renewable moratorium permits. Therefore, any Gulf shrimp reserve pool permit that is created would not be issued until eligibility requirements are developed by the Council and implemented through subsequent rulemaking. Depending on such future Council action on eligibility requirements, Gulf shrimp reserve pool permits could be used as a method to allow new entrants into the fishery or to allow persons who previously held a moratorium permit to re-enter the fishery.

Transit Provisions for Shrimp Vessels Without a Federal Permit

Currently, to possess Gulf shrimp in the Gulf EEZ, a vessel must have been issued a moratorium permit. In the Gulf, there are some areas where state-only licensed shrimpers would like to transit with shrimp on board from state waters through Federal waters to return to state waters and port. However, because these state-licensed shrimping vessels do not possess a moratorium permit, they cannot legally transit through the Gulf EEZ while possessing shrimp. This results in some of these vessels spending increased time at sea and incurring additional fuel costs because of longer transit times.

The proposed rule would allow a vessel possessing Gulf shrimp to transit the Gulf EEZ without a valid moratorium permit if fishing gear is appropriately stowed. Transit would be defined as non-stop progression through the area; fishing gear appropriately stowed would mean trawl doors and nets must be out of the water and the bag straps must be removed from the net. This transit exemption is expected to reduce the time at sea required for some shrimpers, while allowing enforcement to easily determine that the gear is not being used for fishing.

Measures Contained in Amendment 17B but Not Codified Through This Proposed Rule

Amendment 17B would specify the aggregate MSY and aggregate OY for the Federal Gulf shrimp fishery, and determine a minimum number of moratorium permits in the fishery.

Aggregate MSY and OY

After extending the duration of the Gulf shrimp moratorium permit program for another 10 years, and recognizing that the moratorium results in a passive loss of permits from the fishery, the Council decided to determine an appropriate minimum number of moratorium permits. To facilitate this determination, the Council decided to establish an aggregate MSY and OY for the Federal Gulf shrimp fishery. In Amendment 15 to the FMP, the Council established species specific MSYs and OYs for penaeid shrimp (80 FR 74711, November 30, 2015). MSY and OY were established for royal red shrimp in the original FMP (46 FR 27489, May 20, 1981). Additionally, Amendment 13 to the FMP revised the MSY and OY for royal red shrimp (71 FR 56039, September 26, 2006). However, the shrimp permit is not species specific and an aggregate MSY and OY for all federally managed shrimp species (penaeid and royal red) can be used as references points for the shrimp fishery as whole.

In March 2016, the Council convened a working group to determine the appropriate aggregate MSY and aggregate OY for the Gulf shrimp fishery in Federal waters. To determine the aggregate MSY, the working group used the same general approach established by a 2006 working group, but included the most recent years of catch and effort data through 2014. The working group also determined that there were four important factors to consider when establishing aggregate OY: Landings, CPUE, sea turtle bycatch threshold, and juvenile red snapper bycatch. The working group concluded that the predicted effort and associated landings in 2009 balanced all of these criteria relative to observed levels in other years.

Amendment 17B proposes using the method developed by the working group to establish aggregate MSY for the Federal Gulf shrimp fishery at 112,531,374 lb (51,043,373 kg), tail weight. Amendment 17B also would establish aggregate OY for the Gulf shrimp fishery equal to 85,761,596 lb (38,900,806 kg), tail weight, which is the aggregate MSY reduced for the ecological, social, and economic factors described above.

Minimum Threshold Number of Gulf Shrimp Moratorium Permits

As noted above, as of December 31, 2016, there were 1,441 moratorium permits that were valid or renewable, and, at the current rate of termination, the minimum threshold number of permits selected by the Council, 1,072 permits, will be reached in 24 years. This minimum threshold number of valid or renewable moratorium permits is based on the predicted number of active permitted vessels needed to achieve aggregate OY in the offshore fishery. Aggregate OY accounts for relatively high CPUE and landings, while reducing the risk of exceeding sea turtle and juvenile red snapper bycatch. Neither this proposed rule nor Amendment 17B actively removes any moratorium permits. The minimum threshold is only for purposes of monitoring changes in fishery participation and determining whether additional management measures should be established.

As specified in Amendment 17B, when the number of moratorium permits declines to 1,175, the Council would form a panel to review details of the reserve permit pool and other options for management. The Council's Shrimp Advisory Panel (AP) suggested the review panel should meet when 1,300 valid and renewable permits remain, but the Council determined that the review panel should meet when the number of permits was closer to the threshold number of 1,072 permits. The panel would consist of the Council's Shrimp AP members, Science and Statistical Committee members, NMFS, and Council staff. This panel could make recommendations about how to utilize a Gulf shrimp vessel permit reserve pool. The development of additional details for the pool permits will occur through a plan amendment or framework action, as appropriate, at a later date, when additional available information about the status of the Gulf shrimp fishery may be available.

Measures in This Proposed Rule Not Contained in Amendment 17B

In addition to the measures described in Amendment 17B, this proposed rule would revise the coordinates for the Tortugas shrimp sanctuary in the Gulf that were established in the original Shrimp FMP; and clarify the regulations for the harvest and possession of wild live rock in Gulf Federal waters, as established in the FMP for Coral and Coral Reefs of the Gulf of Mexico (Coral FMP).

The original FMP established the Tortugas shrimp sanctuary on May 20, 1981, which was implemented with cooperation from of the state of Florida (46 FR 27489, May 20, 1981), and which is currently defined at 50 CFR 622.55(c)(1). Since that time, there have been numerous advances in geographical positioning systems that describe the physical locations (such as lights) used to define the boundary of the Tortugas shrimp sanctuary. NMFS and the state of Florida have determined that several positions for the points defining the boundary of the sanctuary are no longer consistent with the most recent published coordinates in Federal navigation references and current positioning systems, such as Global Positioning Systems. For example, Point N (Coon Key Light) is currently described as being located at 25°52′9″ North Latitude and 81°37′9″ West Longitude. However, using current technology that is reflected in recently U.S navigational publications, NMFS and the state of Florida have noted that this point is actually located at 25°52′54″ North Latitude and 81°37′56″ West Longitude. Therefore, this proposed rule would revise the positions for Points N, F, G, H, and P to reflect current technology, for consistency with the current U.S. Coast Guard Light List, the U.S. Coast Pilot, and the state of Florida, and for consistency in units of position. For consistency, the state of Florida is also updating these positions. Only these technical corrections for the coordinates would be made to the language of the regulations; this proposed rule would not make any substantive changes in the regulations specific to the management measures for the Tortugas shrimp sanctuary.

This proposed rule also would revise the prohibited species regulations for wild live rock, as established in the Coral FMP. In 1994, the final rule implementing Amendment 2 to the Coral FMP established a prohibition on the harvest and possession of wild live rock in the Gulf EEZ to begin on January 1, 1997 (59 FR 66776, December 28, 1994). The following year, the final rule implementing Amendment 3 to the Coral FMP established an annual quota for wild live rock from the Gulf EEZ to apply before the prohibition would take effect (60 FR 56533, November 9, 1995). The prohibition on harvest beginning in 1997, and the quota were originally codified at 50 CFR 638.26(c) and (d), and the quota provision included prohibitions on harvest and possession and on sale and purchase when a quota closure occurs. When NMFS reorganized the 50 CFR part 622 regulations in 1996, the prohibition on harvest and possession and the quota provisions were moved to 50 CFR 622.42(b)(2) and 622.43(a)(2)(ii) (61 FR 34930, July 3, 1996). In 1999, NMFS issued a final rule for a Technical Amendment to its regulations in 50 CFR part 622 in order to revise a variety of regulations for clarity, consistency in terms, and the removal of outdated regulations (64 FR 59125, November 2, 1999). Because the harvest of wild live rock in the Gulf was discontinued at the end of 1996, the final rule for the Technical Amendment removed several provisions related to harvest, including the quota and the associated prohibitions on harvest and possession and on sale and purchase, when a quota closure occurs. That final rule also added a general restriction on sale and purchase of wild live rock from the Gulf EEZ, which remains in effect today. However, NMFS recently became aware that the rule inadvertently failed to also add the general restriction on the harvest and possession of wild live rock in or from the Gulf EEZ. In this proposed rule, NMFS corrects this error by adding the Gulf EEZ wild live rock prohibition at 622.73(c).

Classification

Pursuant to section 304(b)(1)(A) of the Magnuson-Stevens Act, the NMFS Assistant Administrator has determined that this proposed rule is consistent with Amendment 17B, the FMP, other provisions of the Magnuson-Stevens Act, and other applicable law, subject to further consideration after public comment.

This proposed rule has been determined to be not significant for purposes of Executive Order 12866.

The Magnuson-Stevens Act provides the legal basis for this proposed rule. No duplicative, overlapping, or conflicting Federal rules have been identified. In addition, no new reporting and record-keeping requirements are introduced by this proposed rule. Accordingly, the Paperwork Reduction Act does not apply to this proposed rule. A description of this proposed rule, why it is being considered, and the purposes of this proposed rule are contained in the preamble and in the SUMMARY section of the preamble. The objectives of this proposed rule are to establish the appropriate metrics to manage the shrimp fishery, maintain increases in catch efficiency, maintain landings at or near aggregate OY, promote economic efficiency and stability in the fishery, provide flexibility for state registered shrimp vessels, protect federally managed Gulf shrimp stocks, correct coordinates for the Tortugas sanctuary in the Federal regulations so they are consistent with published coordinates in Federal navigation references and current positioning systems, and correct the regulations to clarify that harvest and possession of wild live rock in or from the Gulf EEZ is prohibited.

The Chief Counsel for Regulation of the Department of Commerce certified to the Chief Counsel for Advocacy of the Small Business Administration (SBA) that this rule, if adopted, would not have a significant economic impact on a substantial number of small entities. A description of the factual basis for this determination follows. Estimates in the factual basis are based on 2011-2014 data, and all monetary estimates are in 2014 dollars, consistent with the data and estimates in Amendment 17B.

This proposed rule, if implemented, would establish an aggregate MSY of 112,531,374 lb (51,043,373 kg), tail weight, and an aggregate OY of 85,761,596 lb (38,900,806 kg), tail weight, for the Federal Gulf shrimp fishery; establish a minimum threshold of 1,072 Gulf shrimp moratorium permits; establish how the Council will respond if and when the minimum threshold is reached; and allow shrimp vessels without Federal permits to transit through Federal waters in the Gulf when they have shrimp on board. This proposed rule also would make technical corrections to the regulations that would revise the coordinates for the Tortugas shrimp sanctuary in the Gulf and clarify the provisions regarding the harvest and possession of wild live rock in Gulf Federal waters.

The action to revise the coordinates for the Tortugas shrimp sanctuary in the Gulf is purely administrative in nature and thus would not directly regulate or affect any entities. In addition, the action to correct the regulations for wild live rock in Gulf Federal waters adds the previously established prohibition on the harvest and possession, consistent with the regulations implemented as a result of Amendment 2 and Amendment 3 to the Coral FMP. Currently, because the sale of wild live rock is prohibited under the existing regulations, harvest of wild live rock for commercial purposes, and thus by business entities, is prohibited. As such, any harvest that may be occurring as a result of uncertainty regarding the current regulations would be by individuals who are retaining wild live rock for personal use. However, individuals engaged in such activities are not considered entities under the RFA.

This proposed rule is expected to directly regulate businesses that possess Federal Gulf shrimp moratorium permits as well as shrimp vessels that do not possess these permits but transit through Federal waters. As of January 1, 2017, there were 1,440 vessels with valid or renewable Gulf shrimp moratorium permits. Although some vessels are thought to be owned by businesses with the same or very similar individual owners, ownership data regarding the businesses that possess these permits is incomplete, and thus it is not currently feasible to accurately determine affiliations between vessels and the businesses that own them. NMFS is making changes to its permit application forms so that such determinations can be accurately made for future regulatory actions in this fishery. Also, NMFS does not possess data that would indicate how many vessels without Federal permits could harvest shrimp in the Gulf and choose to transit through Federal waters. However, available landings data in recent years indicate that as many as 3,800 vessels without Federal permits harvested shrimp in the Gulf. NMFS does not possess any ownership data for these vessels. Thus, it is not currently feasible to accurately determine the number of individual businesses these 3,800 vessels represent. While it will result in an overestimate of the actual number of businesses directly regulated by this proposed rule, for the purposes of this analysis, it is assumed that each vessel is independently owned by a single business. Therefore, this proposed rule would be expected to directly regulate 5,240 businesses.

For vessels with Gulf shrimp moratorium permits, annual gross revenue was about $381,000 on average from 2011 through 2014, of which approximately $343,000 came from commercial fishing operations. Net revenue for these vessels was about $43,000, while net revenue from commercial fishing operations was approximately $8,300. For vessels without Gulf shrimp moratorium permits, annual gross revenue was about $85,000 on average in 2012, of which approximately $64,000 came from commercial fishing operations. Net revenue was about $16,000, while net revenue from commercial fishing operations was approximately −$5,000. From 2011 through 2014, the greatest average annual gross revenue earned by a single vessel (business) was approximately $1.85 million.

On December 29, 2015, NMFS issued a final rule establishing a small business size standard of $11 million in annual gross receipts (revenue) for all businesses primarily engaged in the commercial fishing industry (NAICS code 11411) for RFA compliance purposes only (80 FR 81194, December 29, 2015). In addition to this gross revenue standard, a business primarily involved in commercial fishing is classified as a small business if it is independently owned and operated, and is not dominant in its field of operations (including its affiliates).

Based on the information above, all businesses directly regulated by this proposed rule are determined to be small businesses for the purpose of this analysis. Therefore, it is determined that this proposed rule will affect a substantial number of small businesses.

Aggregate MSY is a biological reference point. In general, establishing biological and other reference points in fisheries does not directly regulate any entities and therefore is not expected to alter domestic prices, landings, or the harvesting behavior of vessels. As such, the action to establish aggregate MSY is not expected to directly affect any small entities in the Gulf shrimp fishery. Similarly, aggregate OY specifies the level of harvest that is expected to maximize net benefits to the Nation. Though not purely biological, aggregate OY is also a reference point. Thus, the action to establish aggregate OY does not directly regulate any entities and would also not be expected to alter domestic prices, landings, or the harvesting behavior of vessels in the Gulf shrimp fishery. As such, the action to establish aggregate OY is not expected to directly affect any small entities.

The action to establish a minimum number of 1,072 Gulf shrimp moratorium permits would not actively remove Gulf shrimp moratorium permits from the Federal fishery. Rather, it would continue to allow a passive reduction in the number of valid or renewable Gulf shrimp moratorium permits, as permits terminate due to not being renewed in a timely manner, until the minimum number is reached. As a result, this action is not expected to directly regulate or affect any small entities.

The action to establish the Council's response when the number of valid and renewable permits reaches or approaches the minimum number of permits is also administrative, or procedural, in nature. If the number of valid and renewable permits reaches the minimum number, any permits that are not renewed within 1 year of the expiration date on the permit will go into a reserve pool. However, these reserve pool permits will not be issued, and therefore cannot be used to harvest shrimp in Federal waters, until eligibility requirements are established. This action also establishes a requirement for the Council to convene a review panel once the number of valid and renewable permits reaches 1,175. This action would not be expected to alter domestic shrimp prices, landings, or the harvesting behavior of shrimp vessels in the Gulf, and therefore is also not expected to directly affect any small entities.

The action to allow vessels without a Gulf shrimp moratorium permit to possess shrimp when transiting through Federal waters if the gear is appropriately stowed would be expected to directly affect these vessels. Specifically, under current regulations, these vessels are not allowed to transit through Federal waters and instead must often take a longer route between their home ports and where they harvest shrimp, resulting in longer transiting times and distances, and therefore higher fuel expenses. Although quantitative estimates of these additional fuel expenses are not available, this action would be expected to reduce fuel expenses for these vessels, which would result in direct but positive economic effects on these small entities.

Based on the information above, a reduction in profits for a substantial number of small entities is not expected as a result of this proposed rule. Thus, an initial regulatory flexibility analysis is not required and none has been prepared.

List of Subjects in 50 CFR Part 622

Commercial, Fisheries, Fishing, Gulf, Permits, Shrimp.

Dated: September 27, 2017.
Samuel D. Rauch III,
Deputy Assistant Administrator for Regulatory Programs, National Marine Fisheries Service.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

2. In § 622.50, revise paragraph (b)(3)(ii), and add paragraphs (b)(3)(iii) and (e) to read as follows:

§ 622.50 Permits, permit moratorium, and endorsements.

* * * * *

(b) * * *

(3) * * *

(ii) Except as provided for in paragraph (b)(3)(iii) of this section, a commercial vessel moratorium permit for Gulf shrimp that is not renewed will be terminated and will not be reissued during the moratorium. A permit is considered to be not renewed when an application for renewal, as required, is not received by the RA within 1 year of the expiration date of the permit.

(iii) When NMFS has determined that the number of commercial vessel moratorium permits for Gulf shrimp has reached the threshold number of permits as described in the FMP, then a commercial vessel moratorium permit for Gulf shrimp that is not renewed will be converted to a Gulf shrimp reserve pool permit and held by NMFS for possible reissuance. Gulf shrimp reserve pool permits will not be issued until eligibility requirements are developed and implemented through subsequent rulemaking.

* * * * *

(e) Gulf shrimp transit provision. A vessel that does not have a valid Gulf shrimp moratorium permit, as described in paragraphs (a) and (b) of this section, may possess Gulf shrimp when in transit in the Gulf EEZ provided that the shrimp fishing gear is appropriately stowed. For the purposes of this paragraph, transit means non-stop progression through the Gulf EEZ. Fishing gear appropriately stowed means trawl doors and nets must be out of the water and the bag straps must be removed from the net.

3. Amend § 622.55 by:

a. Designating the table in paragraph (b) as Table 1 to paragraph (b);

b. Revising paragraph (c)(1);

c. Designating the table after paragraph (d)(2) as Table 3 to paragraph (d), the table after paragraph (d)(3) as Table 4 to paragraph (d), and the table after paragraph (d)(4) as Table 5 to paragraph (d);

d. In paragraph (e) designating the table as Table 6 to paragraph (e).

The revision to read as follows:

§ 622.55 Closed area.

* * * * *

(c) * * *

(1) The Tortugas shrimp sanctuary is closed to trawling. The Tortugas shrimp sanctuary is that part of the EEZ off Florida shoreward of rhumb lines connecting, in order, the following points:

Table 1 to Paragraph (c)(1)
Point | North lat. | West long.
N ¹ | 25°52′54″ | 81°37′56″
F | 24°50′42″ | 81°51′18″
G ² | 24°40′00″ | 82°26′39″
H ³ | 24°34′44″ | 82°35′27″
P ⁴ | 24°35′00″ | 82°08′00″
¹ Coon Key Light.
² New Ground Shoals Light.
³ Rebecca Shoals Light.
⁴ Marquesas Keys.

* * * * *

4. In § 622.73, add paragraph (c) to read as follows:

§ 622.73 Prohibited species.

* * * * *

(c) Wild live rock may not be harvested or possessed in or from the Gulf EEZ.

[FR Doc. 2017-21039 Filed 10-3-17; 8:45 am]

BILLING CODE 3510-22-P